DEPARTMENT OF HEALTH AND HUMAN SERVICES

Agency for Healthcare Research and Quality

Notice of Meetings

In accordance with section 10(d) of the Federal Advisory Committee Act as amended (5 U.S.C., Appendix 2), the Agency for Healthcare Research and Quality (AHRQ) announces meetings of scientific peer review groups. The subcommittees listed below are part of the Agency's Health Services Research Initial Review Group Committee.

The subcommittee meetings will be closed to the public in accordance with the Federal Advisory Committee Act, section 10(d) of 5 U.S.C., Appendix 2 and 5 U.S.C. 552b(c)(6). Grant applications are to be reviewed and discussed at these meetings. These discussions are likely to involve information concerning individuals associated with the applications, including assessments of their personal qualifications to conduct their proposed projects. This information is exempt from mandatory disclosure under the above-cited statutes.

1. Name of Subcommittee: Health Research Dissemination and Implementation.

Date: June 15-16, 2006 (Open from 8 a.m. to 8:15 a.m. on June 15 and closed for remainder of the meeting).

2. Name of Subcommittee: Health Systems Research.

Date: June 15-16, 2006 (Open from 8 a.m. to 8:15 a.m. on June 15 and closed for remainder of the meeting).

3. Name of Subcommittee: Health Care Quality and Effectiveness Research.

Date: June 22-23, 2006 (Open from 8 a.m. to 8:15 a.m. on June 22 and closed for remainder of the meeting).

4. Name of Subcommittee: Health Care Technology and Decision Sciences.

Date: June 22-23, 2006 (Open from 8 a.m. to 8:15 a.m. on June 22 and closed for remainder of the meeting).

5. Name of Subcommittee: Health Care Research Training.

Date: June 29-30, 2006 (Open from 8 a.m. to 8:15 a.m. on June 29 and closed for remainder of the meeting).

All the meetings above will take place at: Agency for Healthcare Research and Quality, John Eisenberg Conference Center, 540 Gaither Road, Rockville Maryland 20850.

Contact Person: Anyone wishing to obtain a roster of members, agenda or minutes of the nonconfidential portions of the meetings should contact Mrs. Bonnie Campbell, Committee Management Officer, Office of Extramural Research, Education and Priority Populations, AHRQ, 540 Gaither Road, Suite 2000, Rockville, Maryland 20850, Telephone (301) 427-1554.

Agenda items for these meetings are subject to change as priorities dictate.

Dated: April 11, 2006.
Carolyn M. Clancy,
Director.

[FR Doc. 06-3719 Filed 4-18-06; 8:45am]

BILLING CODE 4160-90-M